LIBRARY OF CONGRESS

Copyright Office

[Docket No. 2010-4]

Federal Copyright Protection of Sound Recordings Fixed Before February 15, 1972

AGENCY: Copyright Office, Library of Congress.

ACTION: Notice of inquiry: Extension of reply comment period.

SUMMARY: The Copyright Office of the Library of Congress is extending the deadline for filing reply comments in response to its Notice of Inquiry requesting public input on the desirability and means of bringing sound recordings fixed before February 15, 1972 under federal jurisdiction. Initial comments are available for review on the Copyright Office Web site.

DATES: Reply comments must be received in the Office of the General Counsel of the Copyright Office no later than April 13, 2011.

ADDRESSES: The Copyright Office strongly prefers that comments be submitted electronically. A comment page containing a comment form is posted on the Copyright Office Web site at http://www.copyright.gov/docs/sound/comments/comment-submission-index.html. The Web site interface requires submitters to complete a form specifying name and organization, as applicable, and to upload comments as an attachment via a browse button. To meet accessibility standards, each comment must be uploaded in a single file in either the Adobe Portable Document File (PDF) format that contains searchable, accessible text (not an image); Microsoft Word; WordPerfect; Rich Text Format (RTF); or ASCII text file format (not a scanned document). The maximum file size is 6 megabytes (MB). The name of the submitter and organization should appear on both the form and the face of the comments. All comments will be posted on the Copyright Office Web site, along with names and organizations.

If electronic submission of comments is not feasible, comments may be delivered in hard copy. If hand delivered by a private party, an original and five copies of a comment or reply comment should be brought to the Library of Congress, U.S. Copyright Office, Room LM-401, James Madison Building, 101 Independence Ave., SE., Washington, DC 20559, between 8:30 a.m. and 5 p.m. The envelope should be addressed as follows: Office of the General Counsel, U.S. Copyright Office.

If delivered by a commercial courier, an original and five copies of a comment or reply comment must be delivered to the Congressional Courier Acceptance Site (“CCAS”) located at 2nd and D Streets, SE., Washington, DC between 8:30 a.m. and 4 p.m. The envelope should be addressed as follows: Office of the General Counsel, U.S. Copyright Office, LM-403, James Madison Building, 101 Independence Avenue, SE., Washington, DC 20559. Please note that CCAS will not accept delivery by means of overnight delivery services such as Federal Express, United Parcel Service or DHL.

If sent by mail (including overnight delivery using U.S. Postal Service Express Mail), an original and five copies of a comment or reply comment should be addressed to U.S. Copyright Office, Copyright GC/I&R, P.O. Box 70400, Washington, DC 20024.

FOR FURTHER INFORMATION CONTACT: David O. Carson, General Counsel, or Chris Weston, Attorney Advisor, Copyright GC/I&R, P.O. Box 70400, Washington, DC 20024. Telephone: (202) 707-8380. Telefax: (202) 707-8366.

SUPPLEMENTARY INFORMATION: To assist in the preparation of its study on federal protection for pre-1972 sound recordings, the Office published a Notice of Inquiry seeking comments on many detailed questions regarding various aspects of the study. See 75 FR 67777 (November 3, 2010). Initial comments, which were due on January 31, 2011, have been received and are posted on the Copyright Office Web site at http://www.copyright.gov/docs/sound/comments/initial/. Reply comments were due to be filed by March 2, 2011.

The Copyright Office has received a request from the Association of Recorded Sound Collections (ARSC) to extend the reply comment period by 42 days in order to allow sufficient time to provide the Office with comprehensive comments on issues relating to copyright law, licensing, and the marketing of sound recordings raised by the initial comments. ARSC points out that at the request of another commenter, the deadline for initial comments was extended by 42 days, and that the initial comments raised “[m]any complex issues relating to copyright law, licensing, and the marketing of sound recordings.” ARSC states that a 42-day extension of the deadline for submission of reply comments would assure that all parties have ample time to craft responses.

Given the complexity of the issues addressed by the initial comments, and in the interest in developing a thorough record, the Office has decided to extend the deadline for filing reply comments by a period of 42 days, making reply comments due by April 13, 2011.

The Office received one initial comment after the January 31 deadline. Because of the extension of the deadline for reply comments, the Office has decided to accept that comment, which has been posted on the Copyright Office Web site at http://www.copyright.gov/docs/sound/comments/initial/ as Comment Number 59.

Dated: February 18, 2011.
Maria Pallante,
Acting Register of Copyrights.

[FR Doc. 2011-4126 Filed 2-23-11; 8:45 am]

BILLING CODE 1410-30-P